DEPARTMENT OF HEALTH AND HUMAN SERVICES

National Institutes of Health

Center for Scientific Review; Amended Notice of Meeting

Notice is hereby given of a change in the meeting of the Neuroendocrinology, Neuroimmunology, Rhythms and Sleep Study Section, October 03, 2013, 08:00 a.m. to October 04, 2013, 05:30 p.m., Pier 5 Hotel, 711 Eastern Avenue, Baltimore, MD 21202, which was published in the Federal Register on September 05, 2013, 78 FR 54664-54665.

The meeting will be held at the Hotel Monaco Baltimore, 2 North Charles Street, Baltimore, MD 21201 on November 22, 2013, starting at 08:00 a.m. and ending at 07:00 p.m. The meeting is closed to the public.

Dated: October 30, 2013.
David Clary,
Program Analyst, Office of Federal Advisory Committee Policy.

[FR Doc. 2013-26427 Filed 11-4-13; 8:45 am]

BILLING CODE 4140-01-P